DEPARTMENT OF THE INTERIOR

National Park Service

[NPS-WASO-NRNHL-0811-8231; 2280-665]

National Register of Historic Places; Notification of Pending Nominations and Related Actions

Nominations for the following properties being considered for listing or related actions in the National Register were received by the National Park Service before August 13, 2011. Pursuant to § 60.13 of 36 CFR Part 60, written comments are being accepted concerning the significance of the nominated properties under the National Register criteria for evaluation. Comments may be forwarded by United States Postal Service, to the National Register of Historic Places, National Park Service, 1849 C St., NW, MS 2280, Washington, DC 20240; by all other carriers, National Register of Historic Places, National Park Service,1201 Eye St. NW., 8th floor, Washington DC 20005; or by fax, 202-371-6447. Written or faxed comments should be submitted by September 23, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places/National Historic Landmarks Program.

ARIZONA

Pima County

Barrio Anita, Roughly bounded by W. Speedway Blvd., UPRR, N. Granada Ave., St. Mary's Rd. & I-10., Tucson, 11000682

Barrio Santa Rosa, Roughly bounded by W. 18th St., S. Russell Ave., W. 22nd St., S. 9th Ave., & S. Meyer Ave., Tucson, 11000683

ARKANSAS

Ashley County

Hamburg Cemetery Historic Section, 800 E. Parker St., Hamburg, 11000684

Benton County

Camp Crowder Gymnasium, 205 Shiloh Dr., Sulpher Springs, 11000685

Clark County

Okolona Colored High School Gymnasium, 767 Layne St., Okolona, 11000686

Ronoake Baptist Church, N. end of Ronoake Baptist Church Rd., Gurdon, 11000687

Drew County

Monticello Commercial Historic District, Bounded roughly by Trotter Ave., Edwards St., Railroad Ave. & Chester St., Monticello, 11000688

Garland County

Central Methodist Episcopal Church South, 1100 Central Ave., Hot Springs, 11000689

Ouachita Avenue Historic District, Bounded by Ouachita Ave., Orange St., Central Ave. & Olive St., Hot Springs, 11000690

Ouachita County

Clifton and Greening Streets Historic District (Boundary Increase III), 140 California St., Camden, 11000691

Pulaski County

Tower Building, 323 Center St., Little Rock, 11000692

Sebastian County

Camp Chaffee Tank Destroyer Battalion Historic District, (World War II Home Front Efforts in Arkansas, MPS) Roughly bounded by Terry St., Ward Ave., Ellis St. & Darby Ave., Fort Smith, 11000693

Washington County

Price Produce and Service Station, (Arkansas Highway History and Architecture MPS) 413, 415 & 417 E. Emma Ave., Springdale, 11000694

Springdale Poultry Industry Historic District, 317 & 319 E. Emma & 316 E. Meadow Aves., Springdale, 11000695

CALIFORNIA

Santa Clara County

Shoup, Paul, House, 500 University Ave., Los Altos, 11000696

DELAWARE

New Castle County

Water Witch Steam Fire Engine Company No. 5, 1814 Gilpin Ave., Wilmington, 11000697

FLORIDA

Manatee County

Benjamin, Judah P. Memorial, 3708 Patton Ave., Ellenton, 11000698

IDAHO

Benewah County

St. Maries Masonic Temple No. 63, 208 S. 8th St., St. Maries, 11000699

MARYLAND

Baltimore County

Dundalk—Liberty—Cornwall Gardens, 7003 Dunmanway, Dundalk, 11000700

MONTANA

Missoula County

Carlton Community Church, 20075 Old MT 93, Florence, 11000701

OREGON

Multnomah County

Bowers, George W. and Hetty A., House, 114 NE. 22nd Ave., Portland, 11000702

SOUTH CAROLINA

Richland County

Calhoun, John C., State Office Building, 1015 Sumter St., Columbia, 11000703

VERMONT

Washington County

Smith, E.L., Roundhouse Granite Shed, 23 Burnham Meadows, Barre, 11000704

Request for REMOVAL has been made for the following resources:

ARKANSAS

Howard County

Boyd, Adam, House E. of Center Point on AR 26, Center Point, 76000415

Clardy—Lee House, AR 26, Center Point, 77000255

Russey—Murray House, S. of Center Point on AR 4, Center Point, 76000417

Saline County

North Fork Saline River Bridge (Historic Bridges of Arkansas MPS) AR 9 over Saline R. Paron, 95000642

[FR Doc. 2011-22897 Filed 9-7-11; 8:45 am]

BILLING CODE 4312-51-P